DEPARTMENT OF DEFENSE

Office of the Secretary

Defense Science Board; Notice of Federal Advisory Committee Meeting

AGENCY: Under Secretary of Defense for Research and Engineering (USD(R&E)), Defense Science Board, Department of Defense (DoD).

ACTION: Notice of Federal advisory committee meeting.

SUMMARY: The DoD is publishing this notice to announce that the following Federal Advisory Committee meeting of the Defense Science Board (DSB) will take place.

DATES: Closed to the public Wednesday, May 1, 2024, from 9:00 a.m. to 4:45 p.m.; closed to the public Thursday, May 2, 2024 from 9:00 a.m. to 3:30 p.m.

ADDRESSES: The address of the closed meeting is the Pentagon, Room 3A912A, Washington, DC 20301.

FOR FURTHER INFORMATION CONTACT: Ms. Elizabeth J. Kowalski, Designated Federal Officer (DFO): (703) 571-0081 (Voice), (703) 697-1860 (Facsimile), elizabeth.j.kowalski.civ@mail.mil (Email). Mailing address is Defense Science Board, 3140 Defense Pentagon, Washington, DC 20301-3140. Website: http://www.acq.osd.mil/dsb/. The most up-to-date changes to the meeting agenda can be found on the website.

SUPPLEMENTARY INFORMATION: Due to circumstances beyond the control of the DFO, the DSB was unable to provide public notification required by 41 CFR 102-3.150(a) concerning its May 1-2, 2024 meeting. Accordingly, the Advisory Committee Management Officer for the DoD, pursuant to 41 CFR 102-3.150(b), waives the 15-calendar day notification requirement.

This meeting is being held under the provisions of chapter 10 of title 5 United States Code (U.S.C.) (commonly known as the “Federal Advisory Committee Act” or “FACA”), 5 U.S.C. 552b(c) (commonly known as the “Government in the Sunshine Act”), and sections 102-3.140 and 102-3.150 of title 41 Code of Federal Regulations (CFR).

Purpose of the Meeting: The mission of the DSB is to provide independent advice and recommendations on matters relating to the DoD's scientific and technical enterprise. The objective of the meeting is to obtain, review, and evaluate classified information related to the DSB's mission. DSB membership will meet with DoD Leadership to discuss classified current and future national security challenges and priorities within the DoD.

Agenda: The meeting will begin on Wednesday, May 1, 2024 at 9:00 a.m. Ms. Betsy Kowalski, DFO and Dr. Eric Evans, Chair of the DSB, will provide classified opening remarks regarding ongoing studies. Following break, DSB Members will read classified reports/executive summaries in preparation for deliberation and voting. The documents reviewed will include the DSB Task Force on DoD Dependencies on Critical Infrastructure report/executive summary; DSB Task Force on Commercial Space System Access and Integrity report/executive summary; the DSB Task Force on Future Cyber Warfighting Capabilities of the DoD report/executive summary; DSB Task Force to Advise Implementation and Prioritization of National Security Innovation Activities executive summary; the DSB Task Force on Digital Engineering Capability to Automate Testing and Evaluation report/executive summary; and the DSB 2024 Summer Study on Climate Change and Global Security report/executive summary. Following break, the Honorable Michael McCord, Under Secretary of Defense (Comptroller)/Chief Financial Officer, will provide a classified briefing on his views of current DoD strategy, challenges, and priorities. Next, Mr. Doug Beck, Defense Innovation Unit (DIU) Director, will provide a classified briefing on his views of DIU's strategy, challenges, and priorities. Finally, DSB Members will deliberate and vote on the DSB Task Force on DoD Dependencies on Critical Infrastructure report/executive summary; DSB Task Force on Commercial Space System Access and Integrity report/executive summary; and the DSB Task Force on Future Cyber Warfighting Capabilities of the DoD report/executive summary. The meeting will adjourn at 4:45 p.m. On Thursday, May 2, 2024, Dr. Lora Weiss, Senior Vice President at Pennsylvania State University, will provide a classified briefing on semiconductor manufacturing. Next, DSB Members will deliberate and vote on the DSB Task Force to Advise Implementation and Prioritization of National Security Innovation Activities executive summary; the DSB Task Force on Digital Engineering Capability to Automate Testing and Evaluation report/executive summary; and the DSB 2024 Summer Study on Climate Change and Global Security report/executive summary. Following break, Dr. William LaPlante, Under Secretary for Acquisition and Sustainment (A&S), will provide a classified briefing on his views of current A&S strategy, challenges, and priorities. Finally, DSB members will have a classified plenary discussion regarding briefer remarks and ongoing studies. The meeting will adjourn at 3:30 p.m.

Meeting Accessibility: In accordance with 5 U.S.C. 1009(d) and 41 CFR 102-3.155, the DoD has determined that the DSB meeting will be closed to the public. Specifically, the USD(R&E), in consultation with the DoD Office of the General Counsel, has determined in writing that the meeting will be closed to the public because it will consider matters covered by 5 U.S.C. 552b(c)(1). The determination is based on the consideration that it is expected that discussions throughout will involve classified matters of national security concern. Such classified material is so intertwined with the unclassified material that it cannot reasonably be segregated into separate discussions without defeating the effectiveness and meaning of the overall meetings. To permit the meeting to be open to the public would preclude discussion of such matters and would greatly diminish the ultimate utility of the DSB's findings and recommendations to the Secretary of Defense and to the USD(R&E).

Written Statements: In accordance with 5 U.S.C. 1009(a)(3) and 41 CFR 102-3.105(j) and 102-3.140, interested persons may submit a written statement for consideration by the DSB at any time regarding its mission or in response to the stated agenda of a planned meeting. Individuals submitting a written statement must submit their statement to the DSB DFO at the email address provided in the FOR FURTHER INFORMATION CONTACT section at any point; however, if a written statement is not received at least three calendar days prior to the meeting, which is the subject of this notice, then it may not be provided to or considered by the DSB until a later date.

Dated: April 23, 2024.
Aaron T. Siegel,
Alternate OSD Federal Register Liaison Officer, Department of Defense.

[FR Doc. 2024-09088 Filed 4-26-24; 8:45 am]

BILLING CODE 6001-FR-P